DEPARTMENT OF ENERGY

Federal Energy Regulatory Commission

[Docket No. RP14-638-000]

Atmos Energy Corporation v. American Midstream (Midla) LLC; Notice of Complaint

Take notice that on March 24, 2014, pursuant to section 206 of the Federal Energy Regulatory Commission's (Commission) Rules of Practice and Procedure, 18 CFR 385.206, Atmos Energy Corporation (Complainant) filed a formal complaint against American Midstream (Midla) LLC (Respondent) alleging that, Respondent's open season notice and process and its refusal to process and extend Complainant's service agreements: (1) Violates the requirements of section 7(b) of the Natural Gas Act, 15 USC 717(f)(b) and Complainant's FERC Gas Tariff, Seventh Revised Volume No. 1; (2) are inconsistent with the Commission's policies and procedures for authorizing abandonment of service to captive customers; and (3)impermissibly discriminates against Complainant in the provision of service and implementation of its tariffs. Complainant also requests that the Commission establish a conference, pursuant to Rule 601 of its Rules of Practice and Procedure, 18 CFR 385.601, in an effort to foster settlement negotiations and address physical pipeline issues raised by the Respondent.

The Complainant certifies that copies of the complaint were served on the contacts for the Respondent as listed on the Commission's list of Corporate Officials.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 5 copies of the protest or intervention to the Federal Energy Regulatory Commission, 888 First Street NE., Washington, DC 20426.

This filing is accessible on-line at http://www.ferc.gov, using the “eLibrary” link and is available for review in the Commission's Public Reference Room in Washington, DC. There is an “eSubscription” link on the Web site that enables subscribers to receive email notification when a document is added to a subscribed docket(s). For assistance with any FERC Online service, please email FERCOnlineSupport@ferc.gov, or call (866) 208-3676 (toll free). For TTY, call (202) 502-8659.

Comment Date: 5:00 p.m. Eastern Time on April 14, 2014.

Dated: March 25, 2014.
Kimberly D. Bose,
Secretary.

[FR Doc. 2014-07184 Filed 3-31-14; 8:45 am]

BILLING CODE 6717-01-P